DEPARTMENT OF COMMERCE

National Oceanic and Atmospheric Administration

Agency Information Collection Activities; Submission to the Office of Management and Budget (OMB) for Review and Approval; Comment Request; Data Collections To Support Comprehensive Economic and Socio-Economic Evaluations of the Fisheries in Regions of the United States Affected by Catastrophic Events

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 27, 2025.

ADDRESSES: Interested persons are invited to submit written comments to Adrienne Thomas, NOAA PRA Officer, at NOAA.PRA@noaa.gov. Please reference OMB Control Number 0648-0767 in the subject line of your comments. All comments received are part of the public record and will generally be posted on https://www.regulations.gov without change. Do not submit Confidential Business Information or otherwise sensitive or protected information.

FOR FURTHER INFORMATION CONTACT: Requests for additional information or specific questions related to collection activities should be directed to Dr. Joe Terry, Office of Science and Technology, 1315 East-West Hwy., Bldg. SSMC3, Silver Spring, MD 20910-3282, (858) 454-2547, joe.terry@noaa.gov.

SUPPLEMENTARY INFORMATION:

I. Abstract

This is a request for extension of a currently approved information collection. The National Marine Fisheries Service (NMFS) Office of Science and Technology's Economics and Social Analysis Division seeks to conduct as-needed data collections to support mandated comprehensive economic and socio-economic evaluations of the fisheries in regions of the United States affected by catastrophic events. The six NMFS Fisheries Science Centers will assist in conducting the proposed collections.

The Magnuson-Stevens Fishery Conservation and Management Act (MSA) includes the following requirement (see SEC. 315(c)), “Within 2 months after a catastrophic regional fishery disaster the Secretary [of Commerce] shall provide the Governor of each State participating in the program a comprehensive economic and socio-economic evaluation of the affected region's fisheries to assist the Governor in assessing the current and future economic viability of affected fisheries, including the economic impact of foreign fish imports and the direct, indirect, or environmental impact of the disaster on the fishery and coastal communities.” The MSA permits the proposed collection, and NMFS would conduct it under the MSA.

This collection will provide information that NMFS will use to produce the comprehensive economic and socio-economic evaluation required by the MSA. For a rapid catastrophic event, such as a hurricane, NMFS seeks to collect data on the immediate and long-term disruption and impediments to recovery of normal business practices to the commercial and recreational fishing industries, including fishing dependent businesses. In addition, for an ongoing event, such as a pandemic or red tide that lingers for many months in the same region(s), NMFS seeks to collect data quarterly to semi-annually as needed to evaluate the ongoing event. NMFS would collect the data from commercial and recreational for hire fishermen, fish dealers, seafood processors, bait and tackle shops, and boat repair/marine supply/other associated businesses.

NMFS will use the data to prepare the required economic and socio-economic evaluations and to improve research and analysis of potential fishery management actions by understanding the immediate, quarterly or semi- annual, and/or long-term compounding effects of catastrophic events on the commercial and recreational fishing industries and the communities most dependent on those industries. The frequency of reporting will be from one to four times a year for each catastrophic event.

II. Method of Collection

NMFS will use a combination of in- person, telephone and video call interviews, as well as mail and internet surveys, to collect the required information.

III. Data

OMB Control Number: 0648-0767.

Form Number(s): None.

Type of Review: Regular submission. Extension of a current information collection.

Affected Public: Individuals or households and business or other for- profit organizations.

Estimated Number of Respondents: 7,184.

Estimated Time per Response: Regional surveys of fishing operations: 30 minutes; Regional surveys of other fishing related businesses: 30 minutes; National surveys of fishing operations: 20 minutes; and National surveys of other fishing related businesses: 20 minutes.

Estimated Total Annual Burden Hours: 3,200 hours.

Estimated Total Annual Cost to Public: $0.

Respondent's Obligation: Voluntary.

Legal Authority: Magnuson-Stevens Fishery Conservation and Management Act SEC. 315(c).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-27651 Filed 11-25-24; 8:45 am]

BILLING CODE 3510-22-P